DEPARTMENT OF THE INTERIOR

Fish and Wildlife Service

50 CFR Part 20

[Docket No. FWS-R9-HQ-2014-0064; FF09M21200-145-FXMB1231099BPP0]

RIN 1018-BA67

Migratory Bird Hunting; Service Regulations Committee Meeting

AGENCY: Fish and Wildlife Service, Interior.

ACTION: Notice of meeting.

SUMMARY: The Fish and Wildlife Service (hereinafter Service) will conduct an open meeting on January 28, 2015, to identify and discuss preliminary issues concerning the 2015-16 migratory bird hunting regulations.

DATES: The meeting will be held January 28, 2015.

ADDRESSES: The Service Regulations Committee meeting will be available to the public in the Rachel Carson conference room at 5275 Leesburg Pike, Falls Church, Virginia 22041.

FOR FURTHER INFORMATION CONTACT: Chief, Division of Migratory Bird Management, U.S. Fish and Wildlife Service, Department of the Interior, MS: MB, 5275 Leesburg Pike, Falls Church, VA 22041-3803; (703) 358-1714.

SUPPLEMENTARY INFORMATION: Under the authority of the Migratory Bird Treaty Act (16 U.S.C. 703-712), the Service regulates the hunting of migratory game birds. We update the migratory game bird hunting regulations, located at 50 CFR part 20, annually. Through these regulations, we establish the frameworks, or outside limits, for season lengths, bag limits, and areas for migratory game bird hunting. To help us in this process, we have administratively divided the nation into four Flyways (Atlantic, Mississippi, Central, and Pacific), each of which has a Flyway Council. Representatives from the Service, the Service's Migratory Bird Regulations Committee, and Flyway Council Consultants will meet on January 28, 2015, at 11:00 a.m. to identify preliminary issues concerning the 2015-16 migratory bird hunting regulations for discussion and review by the Flyway Councils at their March meetings.

In accordance with Department of the Interior (hereinafter Department) policy regarding meetings of the Service Regulations Committee attended by any person outside the Department, these meetings are open to public observation. The Service is committed to providing access to this meeting for all participants. Please direct all requests for sign language interpreting services, closed captioning, or other accommodation needs to the person listed under FOR FURTHER INFORMATION CONTACT, TTY 800-877-8339, with your request by close of business on January 20, 2015.

Dated: December 18, 2014.
Michael J. Johnson,
Acting Assistant Director, Migratory Birds, U.S. Fish and Wildlife Service.

[FR Doc. 2014-30429 Filed 12-29-14; 8:45 am]

BILLING CODE 4310-55-P